DEPARTMENT OF COMMERCE

National Telecommunications and Information Administration

[Docket No. 200813-0218]

RIN 0660-XC048

NTIA Internet Use Survey Questionnaire Development

AGENCY: National Telecommunications and Information Administration, Department of Commerce.

ACTION: Notice, request for public comments.

SUMMARY: The National Telecommunications and Information Administration (NTIA) is seeking comments and recommendations for possible revisions to questions asked on the NTIA internet Use Survey. This long-running survey of individuals and households covers a range of topics related to digital inclusion and other internet policy issues, including the adoption of different types of devices and internet access technologies, locations of internet use, online activities, and challenges preventing some Americans from taking full advantage of the internet. This Notice and Request for Public Comments is an opportunity for members of the public to provide input as to what question additions, revisions, or deletions NTIA should consider in updating the survey instrument.

DATES: Interested persons are invited to submit comments on or before September 17, 2020.

ADDRESSES: Written comments may be submitted by email to data@ntia.gov. Please reference Docket No. 200813-0218 in the subject line of your comments.

FOR FURTHER INFORMATION CONTACT: Rafi Goldberg, National Telecommunications and Information Administration, U.S. Department of Commerce, 1401 Constitution Avenue NW, Room 4725, Washington, DC 20230; Telephone: (202) 482-4375; Email: rgoldberg@ntia.gov. For media inquiries: Stephen Yusko, Office of Public Affairs, National Telecommunications and Information Administration, U.S. Department of Commerce, 1401 Constitution Avenue NW, Room 4897, Washington, DC 20230; Telephone: (202) 482-7002; Email: press@ntia.gov.

SUPPLEMENTARY INFORMATION: Since 1994, NTIA has partnered with the U.S. Census Bureau to produce the NTIA internet Use Survey (approved by the Office of Management and Budget under control number 0060-0021), an important source of data for informing solutions to digital inclusion and other internet-related public policy challenges. This long-running survey of individuals and households covers a range of topics related to digital inclusion and other internet policy issues, including the adoption of different types of devices and internet access technologies, locations of internet use, online activities, and challenges preventing some Americans from taking full advantage of the internet. The survey is administered as a periodic supplement to the Current Population Survey (CPS), a monthly survey that includes approximately 50,000 households across all fifty states and the District of Columbia. The CPS is the source of certain national labor force statistics, including the unemployment rate. The Census Bureau uses a combination of in-person and live telephone interviews to gather data on every individual living in each surveyed household, including both demographic and labor force information. By contracting with the Census Bureau to field the NTIA internet Use Survey as a CPS Supplement, NTIA benefits from the CPS's existing infrastructure and sophisticated design, as well as the Census Bureau's considerable expertise.

The main goal of the NTIA internet Use Survey is to inform evidence-based analysis and development of internet policy generally, and particularly to support solutions that increase digital inclusion and bridge the digital divide. NTIA staff use the resulting data internally and in publications to help inform policymakers; relevant NTIA publications can be found at https://www.ntia.gov/data. Additionally, much of the value of the NTIA internet Use Survey comes from research and analysis performed by members of the public. The academic studies and other work produced externally using NTIA internet Use Survey datasets, which are publicly released following Census Bureau measures to protect respondent confidentiality, contribute substantially to the state of knowledge in internet policy and further advance discourse among policymakers, researchers, and advocates.

Over the last 25 years, NTIA has continually sought to update the questions asked on the NTIA internet Use Survey as the technologies Americans use to communicate, learn, work, and participate in the digital economy—and the terms used to describe those technologies—evolve, and as new policy challenges emerge. NTIA and many external data users also value the ability to track changes in internet use and related metrics over time, necessitating some level of consistency between surveys. Further, against the backdrop of these sometimes competing interests, NTIA must also be mindful of the burden on respondents and the potential that an excessively long or complex survey could lead to reductions on response rates. With those constraints in mind, NTIA last redesigned the survey instrument in collaboration with our Census Bureau partners prior to the 2015 edition of the survey, implemented additional improvements for the 2017 survey, and redeployed that same questionnaire for the most recent survey in 2019. In an effort to explore further refinements to the survey instrument ahead of future data collections, NTIA is contracting with the Census Bureau to conduct cognitive testing of current and proposed questions beginning late 2020. Prior to implementing any substantive changes to the survey questions, Census Bureau staff test the draft survey instrument with members of the public, and use the results to recommend changes that improve the performance of individual questions and the survey instrument overall.

Before submitting a draft survey instrument for testing, NTIA is soliciting feedback from the public as to how it might further improve the questions asked in the survey—including, but not limited to, anyone who has used the survey data or is interested in doing so. NTIA intends to build on previous work by adding, deleting, or modifying questions asked in the 2019 NTIA internet Use Survey, preserving where possible the ability to track changes over time while also improving the efficacy and utility of the survey instrument. Interested parties can find the most recent survey instrument at https://www.ntia.gov/files/ntia/blogimages/november_2019_cps_supplement_-_final.pdf, and previous versions of the questionnaire can be found in the technical documentation accompanying each public use dataset, available from https://www.ntia.gov/page/download-digital-nation-datasets.

NTIA invites all suggestions of possible survey instrument changes to submit for cognitive testing. The following questions serve as a non-exhaustive guide to some of the survey design issues commenters may wish to address:

1. Should NTIA be aware of any past or future planned uses of data from the NTIA internet Use Survey? If so, which survey questions or topics were or would be most important to accomplishing this work?

2. What questions, if any, should NTIA propose adding to the NTIA internet Use Survey? New questions could either expand on an existing topic, e.g., an additional type of computing device or online activity not currently tracked, or address an entirely new topic in computer or internet use. Commenters may wish to discuss the desired response format (yes or no, multiple choice, etc.), unit of measurement (individuals, households, or a subset of either), and other details of the data to be collected. Further, parties proposing new questions may consider commenting on how NTIA should address any resulting increase in respondent burden, including time needed to administer the survey.

3. Which existing questions, if any, should NTIA consider modifying for future editions of the NTIA internet Use Survey? NTIA may modify the text of an existing survey question in a range of situations, including when recent developments suggest a need for new terminology or answer choices, or when a different question structure may reduce respondent burden or improve the resulting data. Commenters may suggest changes in general terms or by proposing specific question text. If desired, parties may also comment on any potential impacts to time-series comparisons.

4. Which existing questions, if any, should NTIA consider removing from the NTIA internet Use Survey? Reasons NTIA may consider removing a question include, but are not limited to, lack of practical utility (or lesser utility compared with potential new questions), challenges to collecting accurate data through a household survey, or events obviating the continued need for a previously important question. Please comment on any challenges that may result from question removal, including the loss of time-series comparisons.

5. In addition to questions discussed above, are there any questions or general issues related to the NTIA internet Use Survey that should be of particular focus during the cognitive testing process? The Census Bureau will test the entire draft survey instrument, creating an opportunity to assess the performance of all questions individually and collectively.

Instructions for Commenters: Commenters are encouraged to address any or all of the questions in this Notice and Request for Public Comments. Comments that contain references to studies, research, and other empirical data that are not widely published should include copies of the referenced materials with the submitted comments. Comments submitted by email should be machine-readable and should not be copy-protected. Commenters should include the name of the person or organization filing the comment, as well as a page number on each page of their submissions. All personal identifying information (for example, name, address) voluntarily submitted by the commenter may be publicly accessible. Do not submit confidential business information or otherwise sensitive or protected information.

Dated: August 13, 2020.
Kathy Smith,
Chief Counsel, National Telecommunications and Information Administration.

[FR Doc. 2020-18041 Filed 8-17-20; 8:45 am]

BILLING CODE 3510-60-P